COMMODITY FUTURES TRADING COMMISSION

Sunshine Act Meetings

Agency Holding the Meeting: Commodity Futures Trading Commission.

Time and Date: 2 p.m., Wednesday, September 12, 2007.

Place: 1155 21st St., NW., Washington, DC, 9th Floor Commission Conference Room.

Status: Closed.

Matters to be Considered:: Enforcement Matters.

FOR FURTHER INFORMATION CONTACT: Sauntia S. Warfield, 202-418-5084.

David A. Stawick,
Secretary of the Commission.

[FR Doc. 07-4419 Filed 9-5-07; 3:46 am]

BILLING CODE 6351-01-M